DEPARTMENT OF LABOR

Bureau of International Labor Affairs, Office of Trade and Labor Policy: Questions and Answers for Solicitation for Cooperative Agreement Application (SGA) 07-03, Strengthening Labor Systems in Central America: Establishing Worker Rights Centers

AGENCY: Bureau of International Labor Affairs, Office of Trade and Labor Affairs.

ACTION: Notice.

SUMMARY: In response to the subject solicitation, inquiries have been received regarding the requirements of the solicitation. This notice publishes the inquiries and the responses to the inquiries. Due to the pending closing date of February 23, 2007 no further questions will be entertained.

FOR FURTHER INFORMATION CONTACT: Lisa Harvey, Department of Labor, Procurement Services Center, S-4307, 200 Constitution Ave, NW., Washington DC, 20210, Telephone (202) 693-4592, e-mail: Harvey-lisa@dol.gov.

Q: Could you confirm that the grant seeks projects serving Central American laborers working in the countries listed, i.e., not migrant laborers working in Central America and/or the United States?

A. The project seeks to serve Central American Laborers working in the countries listed.

Q. Is the aim of the project to help Central American laborers vindicate their rights under existing labor laws in their countries of origin, or also to help influence change in those laws for the better?

A. The SGA states “this project provides assistance to improve the effective enforcement of national labor laws by strengthening the capacity of local organizations to provide advice to workers about the scope and applicability of relevant labor laws, and when necessary, provide legal services explaining the procedural and documentation requirements to exercise those rights.”

Q. If an organization wishes to apply to tackle part of the project (i.e., in one or two of the countries concerned, rather than all), can it do so on its own, or must it do so as part of a larger association?

A. The Applicant must demonstrate how it will undertake activities in all countries listed, whether alone or through an association of organizations.

Signed this 12th day of February 2007.
Lisa Harvey,
Grant Officer.

[FR Doc. E7-2739 Filed 2-15-07; 8:45 am]

BILLING CODE 4510-28-P